ENVIRONMENTAL PROTECTION AGENCY

[EPA-HQ-OPP-2007-1082; FRL-8387-4]

Sulfluramid Registration Review Final Decision; Notice of Availability

AGENCY: Environmental Protection Agency (EPA).

ACTION: Notice.

SUMMARY: This notice announces the availability of EPA’s final registration review decision for the pesticide case sulfluramid. Registration review is EPA’s periodic review of pesticide registrations to ensure that each pesticide continues to satisfy the statutory standard for registration, that is, that the pesticide can perform its intended function without causing unreasonable adverse effects on human health or the environment. Through this program, EPA is ensuring that each pesticide’s registration is based on current scientific and other knowledge (including its effects on human health and the environment).

ADDRESSES

:

Docket: All documents in the docket are listed in the docket index available in regulations.gov. To access the electronic docket, go to http://www.regulations.gov; select “Advanced Search,” then “Docket Search.” Insert the docket ID number where indicated and select the “Submit” button. Follow the instructions on the regulations.gov website to view the docket index or access available documents. Although, listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Rosanna Louie, Special Review and Reregistration Division (7508P), Office of Pesticide Programs, Environmental Protection Agency, 1200 Pennsylvania Ave., NW., Washington, DC 20460-0001; telephone number: (703) 308-0037; fax number: (703) 308-8005; e-mail address: louie.rosanna@epa.gov.

For general questions on the registration review program, contact Kevin Costello, Special Review and Reregistration Division (7508P), Office of Pesticide Programs, Environmental Protection Agency, 1200 Pennsylvania Ave., NW., Washington, DC 20460-0001; telephone number: (703) 305-5026; fax number: (703) 308-8090; e-mail address: costello.kevin@epa.gov.

SUPPLEMENTARY INFORMATION:

I. General Information

Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

II. Background

A. What Action is the Agency Taking?

This notice announces the final registration review decisions for the sulfluramid case as shown in Table 1.

Table 1.—Registration Review Docket - Final Decision
Registration Review Case Name and Number | Pesticide Docket ID Number | Regulatory Contact name, Phone Number, E-mail Address
Sulfluramid Case 7411 | EPA-HQ-OPP-2007-1082 | Rosanna Louie (703) 308-0037 Louie.rosanna@epa.gov

The docket for registration review of this pesticide case includes the final registration review decision document as well as other relevant documents related to the registration review of the subject case. The proposed registration review decision was posted to the docket for the above case and the public was invited to submit any comments or new information. During the 60-day comment period, no public comments were received for the sulfluramid case.

Background on the registration review program is provided at: http://www.epa.gov/oppsrrd1/registration_review/. Quick links to earlier documents related to the registration review of this pesticide are provided at: http://www.epa.gov/oppsrrd1/registration_review/sulfluramid/index.htm.

B. What is the Agency's Authority for Taking this Action?

FIFRA Section 3(g) and 40 CFR 155.57 and 155.58 provide authority for this action.

A registration review decision is the Agency’s determination whether a pesticide meets, or does not meet, the standard for registration in FIFRA. This final decision continues to be supported by the rationales included in the proposed final decision for sulfluramid. The documents in the docket describe the Agency’s rationale for issuing a registration review final decision for sulfluramid. No additional risk mitigation measures are required or specified for products containing sulfluramid and no labeling changes are currently required as a result of this final decision.

List of Subjects

Environmental protection, Registration review, Pesticides, Pests, and Sulfluramid.

Dated: October 20, 2008.
Steven Bradbury,
Director, Special Review and Reregistration Division, Office of Pesticide Programs.

[FR Doc. E8-25667 Filed 10-28-08; 8:45 a.m.]

BILLING CODE 6560-50-S